DEPARTMENT OF THE TREASURY

Submission for OMB Review; Comment Request

December 7, 2007.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 14, 2008 to be assured of consideration.

Internal Revenue Service (IRS)

OMB Number: 1545-XXXX.

Type of Review: New Collection.

Title: RP-2007-XX (RP-155430-05), Accelerated Appeals Procedure.

Description: This revenue procedure establishes the Accelerated Appeals Procedure for taxpayers who are issued a proposed assessment of penalty under section 6707 of 6707A of the Internal Revenue Code. These taxpayers may request that the Office of Appeals review and consider resolution of the proposed assessment. The information to be collected under the revenue procedure is needed to initiate, and will be used to conduct, the Accelerated Appeals Procedure.

Respondents: Individuals or Households.

Estimated Total Burden Hours: 430 hours.

OMB Number: 1545-1360.

Type of Review: Extension.

Title: PS-102-88 (Final) Income, Gift and Estate Tax.

Description: The regulation provides guidance to individuals or fiduciaries: 1) For making a qualified domestic trust election on the estate tax return of a decedent whose surviving spouse is not a United States citizen in order that the estate may obtain the marital deduction, and 2) for filing the annual returns that such an election may require.

Respondents: Individuals or Households.

Estimated Total Burden Hours: 6,150 hours.

OMB Number: 1545-1629.

Type of Review: Extension.

Title: Paid Preparer's Earned Income Credit Checklist.

Form: 8867.

Description: Form 8867 helps preparers meet the due diligence requirements of Code section 6695(g), which was added by section 1085(a)(2) of the Taxpayer Relief Act of 1997. Paid preparers of Federal income tax returns or claims for refund involving the earned income credit (EIC) must meet the due diligence requirements in determining if the taxpayer is eligible for the EIC and the amount of the credit. Failure to do so could result in a $100 penalty for each failure. Completion of Form 8867 is one of the due diligency requirements.

Respondents: Businesses and other for-profits.

Estimated Total Burden Hours: 14,979,521 hours.

OMB Number: 1545-1889.

Type of Review: Extension.

Title: Notice 2004-59, Plan Amendments Following Election of Alternative Deficit Reduction Contribution.

Description: This notice sets forth answers to certain questions raised by the public when there is an amendment to an election to take advantage of the alternative deficit reduction contribution described in Public Law 108-218.

Respondents: Businesses and other for-profit institutions.

Estimated Total Burden Hours: 400 hours.

OMB Number: 1545-1898.

Type of Review: Extension.

Title: Revenue Procedure 2004-47, Relief From Ruling Process For Making Late Reverse QTIP Election.

Description: This revenue procedure provides alternative relief for taxpayers who failed to make a reverse QTIP election on an estate tax return. Instead of requesting a private letter ruling and paying the accompanying user fee the taxpayer may file certain documents with the Cincinnati Service Center directly to request relief.

Respondents: Individuals or households.

Estimated Total Burden Hours: 54 hours.

OMB Number: 1545-1891.

Type of Review: Revision.

Title: Form 13560, HCTC Health Plan Administrator (HPA) Return of Funds Form.

Form: 13560.

Description: Form 13560 is completed by Health Plan Administrators (HPAs) and accompanies a return of funds in order to ensure proper handling. This form serves as supporting documentations for any funds returned by an HPA and clarifies where the payment should be applied and why it is being sent.

Respondents: State, Local or Tribal Governments.

Estimated Total Burden Hours: 50 hours.

OMB Number: 1545-1631.

Type of Review: Extension.

Title: REG-209619-93 (Final) Escrow Funds and Other Similar Funds.

Description: Section 468B(g) requires that income earned on escrow accounts, settlement funds, and similar funds be subject to current taxation. This section authorizes the Secretary to issue regulations providing for the current taxation of these accounts and funds as grantor trusts or otherwise. The proposed regulations would amend the final regulations for qualified settlement funds (QFSs) and would provide new rules for qualified escrows and qualified trusts used in deferred section 1031 exchanges; pre-closing escrows; contingent at-closing escrows; and disputed ownership funds.

Respondents: Businesses or other for-profit institutions.

Estimated Total Burden Hours: 3,720 hours.

OMB Number: 1545-1639.

Type of Review: Extension.

Title: REG-106012-98 (Final) Definition of Contribution in Aid of Construction under section 118(c).

Description: The regulations provide guidance with respect to Sec. 118(c), which provides that a contribution in aid of construction received by a regulated public water or sewage utility is treated as a contribution to the capital of the utility and excluded from gross income.

Respondents: Businesses or other for-profit institutions.

Estimated Total Burden Hours: 300 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-24143 Filed 12-12-07; 8:45 am]

BILLING CODE 4830-01-P